DEPARTMENT OF HEALTH AND HUMAN SERVICES

CBRN Medical Countermeasures Workshop 2009

AGENCY: Department of Health and Human Services, Assistant Secretary for Preparedness and Response.

ACTION: Notice.

SUMMARY: As stipulated by the Federal Advisory Committee Act, the U.S. Department of Health and Human Services is hereby giving notice that the Biomedical Advanced Development Authority (BARDA), Chemical Biological, Radiological & Nuclear (CBRN) Medical Countermeasures and Acquisitions Management Systems (AMS) will be holding a public workshop. The workshop is open to the public.

DATES: The BARDA Divisions of CBRN and AMS will hold a public workshop on June 25 and 26, 2009 from 8:30 a.m. to 5 p.m. EDT daily. This agenda is subject to change as priorities dictate.

ADDRESSES: Hyatt Regency Bethesda, One Bethesda Metro Center, Bethesda, MD 20814. Phone: 301-657-1234.

FOR FURTHER INFORMATION, CONTACT: CBRN-Workshop@hhs.gov.

SUPPLEMENTARY INFORMATION: The U.S. Department of Health and Human Services, Office of the Secretary, Office of the Assistant Secretary for Preparedness and Response, Biomedical Advanced Research and Development Authority, Division of Chemical, Biological, Radiological and Nuclear and the Division of Acquisitions Management Systems will host a 2-day Medical Countermeasures Workshop.

The purpose of this two-day event is to engage industry and academic stakeholders in a discussion of how to engage and work with BARDA. Informational sessions include:

• The strategic vision for CBRN MCM development.

• The generation of MCM requirements.

• Responding to a Request for Proposal (RFP) or Broad Agency Announcement (BAA).

• The proposal review process.

• Earned Value Management.

• The FDA Animal Rule.

This Workshop is open to the public. There is no fee to attend; however, seating is limited and registration is required. Online registration is available at http://www.medicalcountermeasures.gov. Stakeholder Registration will be open from April 14-June 1, 2009. Federal Government Employee Registration will be open from June 2-12, 2009.

Availability of Materials: The workshop agenda and other materials will be available on site on the workshop dates.

Dated: May 6, 2009.
RADM William C. Vanderwagen,
Assistant Secretary for Preparedness and Response, U.S. Department of Health and Human Services.

[FR Doc. E9-11948 Filed 5-20-09; 8:45 am]

BILLING CODE P